DEPARTMENT OF THE INTERIOR

Fish and Wildlife Service

50 CFR Part 17

[Docket No. FWS-R8-ES-2016-0127; FXES11130900000 167 FF09E42000]

RIN 1018-BB39

Endangered and Threatened Wildlife and Plants; Removing Trichostema austromontanum ssp. compactum (Hidden Lake Bluecurls) From the Federal List of Endangered and Threatened Plants

AGENCY: Fish and Wildlife Service, Interior.

ACTION: Final rule; document availability.

SUMMARY: We, the U.S. Fish and Wildlife Service, are removing the plant Trichostema austromontanum ssp. compactum (Hidden Lake bluecurls) from the Federal List of Endangered and Threatened Plants on the basis of recovery. This action is based on a review of the best available scientific and commercial information, which indicates that the threats to T. a. ssp. compactum have been eliminated or reduced to the point where it no longer meets the definition of an endangered species or a threatened species under the Endangered Species Act of 1973, as amended. This rule also announces the availability of a post-delisting monitoring plan for T. a. ssp. compactum.

DATES: This rule becomes effective July 2, 2018.

ADDRESSES: This final rule and the post-delisting monitoring plan are available on the internet at http://www.regulations.gov in Docket No. FWS-R8-ES-2016-0127 or https://ecos.fws.gov. Comments and materials we received, as well as supporting documentation we used in preparing this rule, are available for public inspection at http://www.regulations.gov. Comments, materials, and documentation that we considered in this rulemaking will be available by appointment, during normal business hours at: U.S. Fish and Wildlife Service, Carlsbad Fish and Wildlife Office, 2177 Salk Avenue, Suite 250, Carlsbad, CA 92008; telephone 760-431-9440; facsimile (fax) 760-431-5901.

FOR FURTHER INFORMATION CONTACT: G. Mendel Stewart, Field Supervisor, Carlsbad Fish and Wildlife Office, 2177 Salk Avenue, Suite 250, Carlsbad, CA 92008; telephone 760-431-9440; facsimile (fax) 760-431-5901. If you use a telecommunications device for the deaf, call the Federal Relay Service at 800-877-8339.

SUPPLEMENTARY INFORMATION:

Previous Federal Action

In carrying out our responsibility to enforce the Endangered Species Act of 1973, as amended (Act; 16 U.S.C. 1531 et seq.), we, the U.S. Fish and Wildlife Service (Service), maintain the Lists of Endangered and Threatened Wildlife and Plants in title 50 of the Code of Federal Regulations (CFR). We added Trichostema austromontanum ssp. compactum to the List of Endangered and Threatened Plants in 1998 (63 FR 49006, September 14, 1998). On January 5, 2017, we proposed to remove this subspecies from the List.

Please refer to the proposed delisting rule for Trichostema austromontanum ssp. compactum (82 FR 1296, January 5, 2017) for a detailed description of previous Federal actions concerning this subspecies.

Subspecies Information

Trichostema austromontanum ssp. compactum, a member of the Lamiaceae (mint family), was described by F. Harlan Lewis (1945) based on specimens collected in 1941, by M.L. Hilend at Hidden Lake in the San Jacinto Mountains of Riverside County, California. Trichostema a. ssp. compactum is a compact, soft-villous (with long, shaggy hairs), annual plant, approximately 4 inches (in) (10 centimeters (cm)) tall, with short internodes (stem segments between leaves), elliptic leaves, and blue flowers with a five-lobed corolla (Lewis 1945, pp. 280-281, 284-285; Lewis 1993, p. 732). For a detailed discussion and species description of Trichostema austromontanum ssp. compactum, please see our proposed delisting rule (82 FR 1296, January 5, 2017).

Trichostema austromontanum ssp. compactum is found only on the margins of Hidden Lake, a small montane vernal pool, in the San Jacinto Mountains, Riverside County, California. At an elevation of 8,700 feet (ft) (2,650 meters (m)), Hidden Lake is Riverside County's only high-elevation vernal pool (Bauder 1999, pp. 3-4), and is owned and managed by Mount San Jacinto State Park (Park). Hidden Lake is located within a California State Park Natural Preserve (The Hidden Lake Divide Natural Preserve) and is surrounded by the Mount San Jacinto State Wilderness Area (CDPR 2002, pp. 62-63). The single pool that supports the entire range of T. a. ssp. compactum encompasses an area of approximately 2 acres (ac) (1 hectare (ha)) and is about 4 ft (1.3 m) deep during the period of maximum inundation (November to April) (Bauder 1999, p. 13; CDPR 2002, pp. 62-63). The pool shrinks in size as the seasons progress, sometimes remaining wet in the center and other times drying out completely.

A small portion of the population (36 individuals) of Trichostema austromontanum ssp. compactum was once observed less than 300 ft (91 m) outside of the Hidden Lake area of inundation (Fraga and Wall 2007, p. 10). This area is within the vernal pool's watershed, and is within the aforementioned Natural Preserve and State Wilderness. We do not consider this small group of individuals to be biologically separate from the rest of the population within the margins of Hidden Lake because the areas are in such close proximity to each other and are connected through the watershed.

Several studies have examined the breeding system, habitat parameters, and micro-distribution of Trichostema austromontanum ssp. compactum and its relatives (Lewis 1945, pp. 276-303; Lewis 1960, pp. 93-97; Spira 1980, pp. 278-284; Bauder 1999, pp. 1-41). Seeds of T. a. ssp. compactum typically germinate in early July, and plants complete their life cycle as the temperature begins to drop to freezing (October to November) (Fraga and Wall 2007, pp. 2-5). Plants generally flower between July and September, but flowering has been documented as late as November (Bauder 1999, p. 1; Fraga and Wall 2007, pp. 4-5). Fruits and seeds begin to develop in early August and continue to develop until November (Fraga and Wall 2007, pp. 2-5). Trichostema austromontanum ssp. compactum has no documented pollinators and is self-compatible (flowers are able to be fertilized by pollen from the same plant) (89.1 percent seed set with the exclusion of pollinators) (Spira 1980, p. 282). Spira (1980, p. 280) also found that insects visiting the other subspecies of T. austromontanum lacked pollen grains on their dorsal surface (which is needed for the transfer of pollen to stigma) and, therefore, were not acting as effective pollinators. More research is needed to investigate the importance of pollinators for reproduction and seed set of T. a. ssp. compactum.

Trichostema austromontanum ssp. compactum produces seeds that contribute to a viable seed bank, which provides adaptability to variable environmental conditions. In nature, plants occur around the margins of Hidden Lake in open soil that is exposed during the summer after the water recedes (Bauder 1999, p. 37). A germination study of T. a. ssp. compactum was conducted by Bauder (1999) using controlled light and temperature growing chambers. Results from the study indicated that daily temperature maxima must be in the range of 77 to 86 degrees Fahrenheit (°F) (25 to 30 degrees Celsius (°C)) for germination to occur (Bauder 1999, p. 37). This study also showed that seeds require a period of cold stratification and a cycle of wet and dry conditions to break their dormancy (Bauder 1999, pp. 28-30, 37). A large portion of the seeds produced by T. a. ssp. compactum did not germinate in this study and a subsequent germination study conducted by staff at Rancho Santa Ana Botanic Garden (RSABG). The authors of both reports suggested that seeds that do not germinate remain in the soil as a seed bank over multiple seasons until specific environmental and physiological conditions are met (Bauder 1999, p. 37; RSABG 2009, p. 5; see also Baskin and Baskin 1989, pp. 54-66).

The soil seed bank provides a buffering mechanism for this taxon against the variability of its habitat conditions and periodic drought years. For example, there may be a year when Hidden Lake dries atypically fast or is subject to a seasonal inundation (e.g., from a late-summer thunderstorm), which may lead to a catastrophic loss of a standing population prior to seed set. Thus, a soil seed bank offsets the loss of seeds in poor years. This strategy helps Trichostema austromontanum ssp. compactum to remain viable in a variable environment, similar to other species adapted to vernal pool habitat or desert environments (Philippi 1993, pp. 481-484; Simovich and Hathaway 1997, pp. 41-43). Due to the complex nature of this strategy to be maintained through varied conditions, we recommend as part of the post-delisting monitoring (PDM) plan to conduct research on seed bank density, seed viability, seed longevity, and reproductive potential of standing plants to better understand the long-term health of this subspecies and the likelihood that the small occurrence will remain viable.

Range, Distribution, Abundance, and Habitat

Surveys have shown that the population size of Trichostema austromontanum ssp. compactum differs greatly from year to year. This fluctuation may be due to the amount of precipitation, the extent of suitable habitat along the margins of the lake, or a combination of factors. The population has been documented to be as large as 243,000 individuals in 2012, to as few as 75 individuals in 2000 (Fraga and Wall 2010, p. 6; CNDDB 2011, p. 1; Fraga 2016, pers. comm.). Despite the annual differences in population size, the population is considered stable because the variation in population size is primarily due to natural factors and because similar variations are seen over a multi-year period.

Trichostema austromontanum ssp. compactum seeds germinate around the margin of Hidden Lake as the ponded water evaporates (Bauder 1999, pp. 20-23). Though the highest density of plants has been observed in different portions of the vernal pool margin, observations of T. a. ssp. compactum were most abundant on the northern margin of the vernal pool (Fraga and Wall 2007, p. 4) and the eastern portion of the vernal pool (Fraga 2017, p. 3). These areas likely receive more sunlight due to the lack of trees just to the south where the pool is located. A small portion of the population is located in a swale (a low area where runoff collects) approximately 300 ft (91 m) away to the northeast from the vernal pool between the Desert View Overlook and Hidden Lake.

Pre-Listing Threats

Prior to listing, the Service and others were concerned that, without the protections and implementation of proper management actions, Trichostema austromontanum ssp. compactum could become in danger of extinction and possibly go extinct. Trichostema austromontanum ssp. compactum was subsequently listed as a threatened species due to vulnerabilities associated with trampling and due to its limited numbers (63 FR 49006, September 14, 1998). For a detailed discussion of pre-listing threats of Trichostema austromontanum ssp. compactum, please see our proposed delisting rule (82 FR 1296, January 5, 2017).

Recovery Implementation

A formal recovery plan for Trichostema austromontanum ssp. compactum has not been prepared, and, therefore, specific delisting criteria have not been developed for the subspecies. However, the Service reviewed the status of the subspecies in the 2006 and 2013 5-year reviews (Service 2006; 2013). In those reviews, the Service identified remaining threats to the taxon and actions that could be taken to make progress in addressing those threats and ensuring long-term management. These included demonstrating that: (1) Management by the California Department of Parks and Recreation (CDPR) has been effective; (2) stochastic threats are not significant; and (3) sufficient seed is banked for reintroduction after an adverse stochastic event (Service 2013, pp. 14-15). Additionally, a Conservation Strategy was developed that outlined additional conservation actions for this taxon (Fraga and Kietzer 2009, entire). We identified in the 2009 Spotlight Species Action Plan (Service 2009, pp. 2-4, 6) specific actions that would ameliorate threats and ensure long-term management:

(1) Continue Work With CDPR as Partners To Monitor Visitor Use at Hidden Lake;

(2) Monitor the Population and Habitat of Trichostema austromontanum ssp. compactum;

(3) Complete Collections for Seed Banking;

(4) Devise Long-Term Protocol for Seed Banking and Use of Seeds in Recovery; and

(5) Finalize the Conservation Strategy and a Long-Term Management Plan for the Subspecies, and a Long-Term Agreement With CDPR That Will Include Established Monitoring and the Implementation of an Adaptive Management Plan.

Existing conservation efforts for each of these actions are discussed below.

(1) Continue Work With CDPR as Partners To Monitor Visitor Use at Hidden Lake

Monitoring of visitor use at Hidden Lake was conducted by CDPR from 2007 to 2015 (Kietzer 2011a, pp. 4-5). Although unauthorized access to the area appears to have been minimized (Fraga and Wall 2010, p. 5; Kietzer 2011a, pp. 4-5), CDPR will continue to monitor visitor use as described in the PDM plan. This action has been fully implemented, and we expect implementation to continue as part of the PDM plan and Conservation Strategy.

(2) Monitor Population and Habitat of Trichostema austromontanum ssp. compactum

In coordination with the Service, CDPR and RSABG developed a monitoring protocol for Trichostema austromontanum ssp. compactum resulting from several years of investigation (2006 to 2009), which included mapping the area of occupancy of T. a. ssp. compactum around Hidden Lake and conducting census counts to estimate population size (Fraga and Wall 2010, pp. 4-6; Fraga 2012, pp. 1-4). Additionally, equipment for monitoring Hidden Lake's microclimate and its effects on the lake level was installed by CDPR in 2010 (Kietzer 2011a, pp. 2-3; Kietzer 2011b, p. 4). Over the past few years, CDPR and RSABG have worked together to develop and implement a more robust statistical sampling method. Initial results suggest that plant numbers were previously underestimated in annual surveys (Kietzer 2016, pers. comm.). Monitoring of this taxon and its habitat will continue as described in the PDM plan and Conservation Strategy.

(3) Complete Collections for Seed Banking

Collection of Trichostema austromontanum ssp. compactum seeds and establishment of an ex situ (off-site) conservation seed bank at RSABG occurred over 3 years (2006, 2008, and 2009). As a precaution, backup samples from each year's collections will be stored at the U.S. Department of Agriculture's National Center for Genetic Resource Preservation in Fort Collins, Colorado (Fraga and Wall 2010, p. 7). This action will provide insurance against the subspecies going extinct if the natural occurrence were extirpated due to an adverse stochastic event or other circumstances (such as disease or prolonged drought).

(4) Devise Long-Term Protocol for Seed Banking and Use of Seeds in Recovery

Trichostema austromontanum ssp. compactum seeds collected at Hidden Lake are being stored at RSABG. Additional germination trials are needed to determine a long-term protocol for seed banking and use of seeds to sustain recovery. This project is ongoing and is discussed in further detail in the PDM plan.

(5) Finalize the Conservation Strategy and a Long-Term Management Plan for the Subspecies, and a Long-Term Agreement With CDPR That Will Include Established Monitoring and the Implementation of an Adaptive Management Plan

The Conservation Strategy was used as the foundation for the PDM plan. Methods for long-term monitoring of this taxon are discussed further in the PDM plan (see ADDRESSES for information on viewing the PDM plan).

Summary of Changes From the Proposed Rule

We have considered all comments and information received during the comment period for the proposed rule to delist Trichostema austromontanum ssp. compactum. In this final rule, we have made only minor changes based on comments received during the public comment period. We made changes in response to peer reviewer recommendations, and included an expanded discussion of stochastic events (such as wildfire) that could impact the subspecies and its habitat.

Summary of Factors Affecting Trichostema austromontanum ssp. compactum

Section 4 of the Act and its implementing regulations (50 CFR part 424) set forth the procedures for listing species on, reclassifying species on, or removing species from the Lists of Endangered and Threatened Wildlife and Plants. “Species” is defined by the Act as including any species or subspecies of fish or wildlife or plants, and any distinct population segment of any species of vertebrate fish or wildlife which interbreeds when mature (16 U.S.C. 1532(16)). A species may be determined to be an endangered species or threatened species because of any one or a combination of the five factors described in section 4(a)(1) of the Act: (A) The present or threatened destruction, modification, or curtailment of its habitat or range; (B) overutilization for commercial, recreational, scientific, or educational purposes; (C) disease or predation; (D) the inadequacy of existing regulatory mechanisms; or (E) other natural or manmade factors affecting its continued existence. A species may be reclassified on the same basis.

A recovered species is one that no longer meets the Act's definition of endangered species or threatened species. Determining whether a species is recovered requires consideration of whether the species is still an endangered species or threatened species because of any of the five categories of threats specified in section 4(a)(1) of the Act. For species that are already listed as endangered or threatened species, this analysis of threats is an evaluation of both the threats currently facing the species and those that are reasonably likely to affect the species in the foreseeable future following the delisting or downlisting (i.e., reclassifying a species from an endangered species to a threatened species) and the removal or reduction of the Act's protections.

A species is an “endangered species” for purposes of the Act if it is in danger of extinction throughout all or a significant portion of its range and is a “threatened species” if it is likely to become an endangered species within the foreseeable future throughout all or a significant portion of its range. The Act does not define the term “foreseeable future.” For this final delisting rule, our forecast of future impacts is based on a review of the period of available data for each potential threat and, when possible, a projection of the situation at least for a similar time period into the future. For example:

• The effect of trampling on Trichostema austromontanum ssp. compactum can be addressed through management of hikers and equestrians, which CDPR does through implementing regulatory mechanisms. CDPR started addressing the impacts about the time the subspecies was listed, in particular with the Mount San Jacinto State Park general plan update in 2002. This plan serves as a “long-range management tool” by providing “conceptual parameters for future management actions” (CDPR 2002, p. 3). To assess the timeframe of this regulatory mechanism, we note that it does not include an “expiration date” or equivalent. Further, we note that in 2010, CDPR changed its approach to the duration of a given Park's general plan, stating in its Planning Handbook (CDPR 2010, p. 17) that CDPR previously considered general plans to have a 15- to 20-year planning horizon or lifespan. Under the current planning structure of broad, goal-oriented general plans and subordinate, more focused management plans, general plans are no longer thought of as having expiration dates or a finite lifespan when they would be considered invalid. General plans are reconsidered for amendments or revisions when circumstances and needs dictate, such as additional land acquisitions and/or substantial development considerations that were not addressed in the general plan or evaluated during the general plan process.

Thus, for trampling, we have about a 15-year record of management actions to benefit Trichostema austromontanum ssp. compactum that are linked to the general plan's implementation, and because the general plan is a long-term document (more than 15 to 20 years), we expect that management will continue into the future for at least 20 years. At the future point when the general plan is updated, the public—including the Service—will have the opportunity to review and comment on the new general plan under the State's California Environmental Quality Act (CEQA) process (independent of the subspecies' listing status).

• The timeline for examining the effects of small populations is inherently difficult to assess, especially for an annual plant, and the effects are inherently difficult to address. This is especially true for a population that is naturally small, which is the case for Trichostema austromontanum ssp. compactum. Population trend data can help with that assessment. As detailed in the PDM plan, we have at least rough estimates of population size going back to 1979, though with a gap between 1993 and 2006, when more formalized monitoring began. Thus, we have a general idea about the population's size over a span of about 40 years.

• Although information exists regarding potential impacts from climate change beyond a 50-year timeframe, the projections depend on an increasing number of assumptions, and thus become more uncertain with increasingly large timeframes. Therefore, a timeframe of 50 years is used to provide the best balance of scope of impacts considered, versus certainty of those impacts.

A. The Present or Threatened Destruction, Modification, or Curtailment of Its Habitat or Range

No threats to the habitat of Trichostema austromontanum ssp. compactum were identified in the final listing rule (63 FR 49006, September 14, 1998). Habitat loss or alteration associated with land use and land management practices is not now a threat, nor do we expect it to be in the future. The land where T. a. ssp. compactum occurs is owned and managed by the Mount San Jacinto State Park and is located within a California State Park Natural Preserve, which is surrounded by the San Jacinto State Wilderness Area (CDPR 2002, pp. 62-63). Because the only known occurrence of this subspecies is on State-owned land designated as State Wilderness inside a State Park, and the Hidden Lake area has been designated as the Hidden Lake Divide Natural Preserve, the subspecies and its habitat are protected from any development or other modification of habitat. Some habitat disturbance from recreational activities has occurred in the past. As discussed below, surveys have been conducted at Hidden Lake in recent years, and observers found that habitat disturbances have been minimized (Fraga and Wall 2010, p. 5). We anticipate that these conditions will remain essentially the same in the future because of the CDPR's implementation of the Park's general plan.

B. Overutilization for Commercial, Recreational, Scientific, or Educational Purposes

As described in the proposed rule and reaffirmed here, there are no threats now nor are there likely to be any threats in the future to Trichostema austromontanum ssp. compactum, throughout its range, related to overutilization for commercial, recreational, scientific, or educational purposes. For a detailed discussion of potential threats related to overutilization for commercial, recreational, scientific, or educational purposes, please see our proposed delisting rule (82 FR 1296, January 5, 2017).

C. Disease or Predation

No threats to Trichostema austromontanum ssp. compactum were attributed to Factor C in the 1998 listing rule (63 FR 49006, September 14, 1998). We have no data to suggest that herbivory or disease are affecting T. a. ssp. compactum, nor do we have data that suggest impacts from these sources will become a threat in the future.

D. The Inadequacy of Existing Regulatory Mechanisms

In our discussions under Factors A, B, C, and E, we evaluate the significance of threats as mitigated by any conservation efforts and existing regulatory mechanisms. Where threats exist, we analyze the extent to which conservation measures and existing regulatory mechanisms address the specific threats to the species. Regulatory mechanisms, if they exist, may reduce or eliminate the impacts from one or more identified threats.

Although inadequacy of existing regulatory mechanisms was not specifically identified as a threat to Trichostema austromontanum ssp. compactum at the time of listing, we did discuss the very limited number of protections that existed for the subspecies at that time (63 FR 49006, September 14, 1998). Specifically, we discussed conservation provisions under section 404 of the Federal Clean Water Act (CWA; 33 U.S.C. 1251 et seq.) and land management of CDPR at the Park.

Section 404 of the Federal Clean Water Act (CWA)

Under section 404 of the Federal CWA, the U.S. Army Corps of Engineers (Corps) regulates the discharge of fill material into waters of the United States, which include navigable and isolated waters, headwaters, and adjacent wetlands (33 U.S.C. 1344). Any action with the potential to impact waters of the United States must be reviewed under the Federal CWA, National Environmental Policy Act (42 U.S.C. 4321 et seq.), and (when listed species may also be impacted) the Act. However, because the only known occurrence of this subspecies was on State-owned land designated as a State Wilderness inside a State Park, we concluded at the time the subspecies was listed that it was unlikely that fill materials will be discharged and thus protections associated with section 404 of the Federal CWA would not be relevant. Now, Hidden Lake is within an area designated by the State as a Natural Preserve, which itself is within State Wilderness. As such, we continue to conclude that it is unlikely that an action will occur that would trigger section 404 of the Federal CWA.

California Department of Parks and Recreation

As discussed above, the entire known distribution of Trichostema austromontanum ssp. compactum occurs at a single vernal pool known as Hidden Lake, owned by the State of California and managed by CDPR. Under existing regulatory mechanisms enacted by the State of California, CDPR manages specifically for the conservation of the subspecies. While discussion of CDPR's management of many aspects of the conservation needs of the subspecies might also be appropriately discussed under other factors (e.g., eliminating trails to maintain natural drainage could also be discussed under factor A; efforts to reduce and manage impacts from recreational activities could also be discussed under factor E), it is included here for ease of discussion since CDPR's authority to provide for the continued conservation of the species flows from regulatory protections provided by State regulations, designations, and the Park's general plan. Such management was being implemented before listing and is being implemented today. Prior to listing, the protections included actions to reduce impacts from visitors by removing references to Hidden Lake from trail maps and signs. Since listing, the CDPR installed barriers in 2000, to exclude equestrian use of the area surrounding Hidden Lake (Guaracha 2006, pers. comm.), thereby reducing the threat of trampling to the subspecies (see Factor E discussion, below).

As a part of the 2002 general plan for Mount San Jacinto State Park, CDPR designated Hidden Lake and its associated watershed area as the Hidden Divide Natural Preserve (Preserve) (CDPR 2002, pp. 62-63). As a Preserve, the 255-ac (103-ha) area is afforded regulatory protection under California Public Resources Code section 5019.71, which states, “[t]he purpose of natural preserves shall be to preserve such features as rare or endangered plant and animal species and their supporting ecosystems.” This allows CDPR to manage Hidden Lake specifically for the conservation of Trichostema austromontanum ssp. compactum and other sensitive resources found in the area, as opposed to pre-designation when recreational use was part of management considerations. We summarize below the management actions CDPR has taken for the conservation of the subspecies associated with management under the natural preserve designation.

With funding from the Service's Showing Success Grant Program (a Service initiative, discontinued in 2012, that provided funding for final actions needed to bring a species to the point it could be downlisted or delisted), CDPR conducted a survey of the Preserve boundary and erected signs along the official trail informing visitors that off-trail hiking is prohibited in the Preserve. Additionally, these funds were used to install an automated weather station, conduct monitoring of unauthorized visitors, and establish monitoring protocols for Trichostema austromontanum ssp. compactum in coordination with RSABG and the Service, which will allow for future management of the area and visitors' activity based on the regulatory mechanisms now available. Due to the remote location, the weather station at Hidden Lake has been difficult to maintain, however, CDPR plans to resolve these issues in the future in order to obtain useful data from this station.

Additionally, CDPR has recently constructed the Hidden Divide Trail to minimize impacts to Trichostema austromontanum ssp. compactum from now-unauthorized access, while facilitating future authorized but restricted visits to the Preserve. This process involved eliminating an existing unauthorized trail and moving it approximately 20 to 40 ft (6 to 12 m) upslope and away from the margin of Hidden Lake where the largest portion of T. a. ssp. compactum occurs. The trail bed is incorporated into the existing slope where it should be easier, compared to the unauthorized trail, to maintain natural drainage patterns in the Hidden Lake's watershed. Inspections of the completed trail will take place by trained CDPR staff during peak seasons, and maintenance will occur as needed to prevent alteration of natural hydrology. The new Hidden Divide Trail will not directly connect to other Park trails and will remain off maps and unadvertised by Park staff. Once completed, CDPR will allow access to the trail through a limited permit system or guided tour only for those visitors who inquire about the site. Horses will not be allowed. The trail will provide some viewing areas with interpretive signs to educate visitors about the unique ecosystem supporting T. a. ssp. compactum. Fencing has been erected along the trail to restrict physical access to Hidden Lake; signs will also help minimize off-trail use.

Based on the regulatory mechanisms now available, CDPR will increase visitor monitoring and begin a zero-tolerance program, issuing citations to off-trail visitors within the Preserve (Fraga and Kietzer 2009, pp. 16-17). Finally, adaptive management techniques will be applied. For example, CDPR will monitor Trichostema austromontanum ssp. compactum populations and visitor use of the Hidden Lake area; the combined information will allow CDPR to control visitation, minimizing impact to the subspecies and its habitat (Fraga and Kietzer 2009, p. 22).

Additionally, Hidden Lake and the Hidden Divide Natural Preserve are within an area designated as State Wilderness. California Public Resources Code section 5019.68 recognizes such areas “as areas where the earth and its community of life are untrammeled by man and where man himself is a visitor who does not remain.” California Public Resources Code sections 5093.30-5093.40, the California Wilderness Act, also states that wilderness areas, including Mount San Jacinto State Wilderness, “shall be administered for the use and enjoyment of the people in such manner as will leave them unimpaired for future use and enjoyment as wilderness, provide for the protection of such areas, [and] preserve their wilderness character.” As the Conservation Strategy for the subspecies notes, “Being within a Natural Preserve and a State Wilderness Area provides [Trichostema austromontanum] ssp. compactum the highest level of protection for natural resources that the State Park System has to offer” (Fraga and Kietzer 2009, p. 19). Thus, these regulatory mechanisms will help minimize the likelihood of future threats to T. a. ssp. compactum and its habitat at Hidden Lake.

These protections enacted by the CDPR associated with the Preserve are expected to remain should this subspecies be delisted, and we conclude that these protections are adequate to reduce or eliminate existing or potential future threats to Trichostema austromontanum ssp. compactum now and in the future.

Summary of Factor D

We conclude that, in absence of the protections afforded by the Act, the other existing regulatory mechanisms will continue to provide adequate protections to ensure that threats to Trichostema austromontanum ssp. compactum are controlled through management and monitoring programs established by CDPR. Listing under the Act provided support for the Service and CDPR to establish management and monitoring programs to provide for the conservation of T. a. ssp. compactum. If this subspecies is removed from the Federal List of Endangered and Threatened Plants, the primary protections for T. a. ssp. compactum will be provided by CDPR through conservation actions to benefit the subspecies in the Preserve. These protections are applied in connection with the Park's existing general plan, and we expect that they will remain unchanged at least until a new plan is adopted, which would not occur until circumstances or needs dictate and, moreover, would not occur without the opportunity of review and comment by the Service and public. This, in turn, would likely mean that any changes to the protections provided by the new general plan would not result in substantial impacts to T. a. ssp. compactum. In conclusion, we find that the currently existing regulatory mechanisms described above are adequate, and they will remain adequate to protect T. a. ssp. compactum and its habitat across its range now and in the future.

E. Other Natural or Manmade Factors Affecting Its Continued Existence

In the 1998 final listing rule, we stated that Trichostema austromontanum ssp. compactum was particularly vulnerable to trampling by recreational visitors and that the subspecies' low numbers and extremely localized range further made it more susceptible to disturbance, which included trampling during the flowering season (63 FR 49006, September 14, 1998, pp. 49016-49017). In our 2013 5-year review (Service 2013, pp. 13-14), we also identified effects associated with global climate change as potential threats, which were not considered at the time of listing. Trampling, low numbers of individuals, and climate change are discussed below.

Trampling

At the time of listing, we concluded that trampling was a threat to Trichostema austromontanum ssp. compactum due to its extremely narrow endemic habitat and easy accessibility to Hidden Lake from the trail, just over a mile from the Palm Springs Aerial Tramway (63 FR 49006, September 14, 1998). This site became increasingly popular with the development of the Tramway in 1964 and the Desert Divide Trail in 1979. Measures such as removing references to Hidden Lake from State Park interpretive materials and eliminating existing trails helped to ameliorate impacts from visitors, but did not prevent all trampling impacts. The 1998 listing rule (63 FR 49006, September 14, 1998) indicated the subspecies continued to experience ongoing impacts from trampling by hikers and horses at that time.

Since listing, CDPR, in cooperation with RSABG staff, finalized the Conservation Strategy for Trichostema austromontanum ssp. compactum (Hidden Lake bluecurls; Lamiaceae) (Fraga and Kietzer 2009, entire), and CDPR has completed several actions to minimize the threat of trampling to the subspecies (Fraga and Kietzer 2009, pp. 25-26). CDPR reduced the likelihood of visitation to the area (by both humans and horses) by removing references to Hidden Lake from trails, maps, and signs in the Park, and physically obscuring trails to the lake (72 FR 54377, September 25, 2007; see also Fraga and Kietzer 2009, p. 16). Additionally, CDPR installed a wooden barrier fence at historical access points to exclude equestrian use (Fraga and Kietzer 2009, p. 16). CDPR also designated Hidden Lake and its associated watershed area as a Natural Preserve as part of their 2002 general plan revision (CDPR 2002, pp. 62-63), as discussed under Factor D, above. Although a low number of hikers currently access the Hidden Lake area despite efforts to exclude visitors from the area, impacts from trampling appear to have been minimized (Fraga and Wall 2010, p. 5; Kietzer 2011a, pp. 4-5). Furthermore, there is no evidence that horses have had access to the area around Hidden Lake since the exclusionary fences were installed in 2000 (Fraga and Kietzer 2009, p. 13; Fraga and Wall 2010, p. 5).

We expect that most of these measures to benefit Trichostema austromontanum ssp. compactum will remain in place for at least the next few decades while the 2002 general plan is active. Further, we expect future general plans to continue to prevent impacts to T. a. ssp. compactum because, compared to the time of listing, CDPR has taken measures to minimize future impacts of certain recreational uses of Hidden Lake that are incompatible with the conservation of the subspecies. This is illustrated by CDPR's formal designation of the Preserve. Thus, trampling of T. a. ssp. compactum by hikers and horses has largely been eliminated, and there is little likelihood that trampling will be a threat to the subspecies in the future.

Low Numbers of Individuals

In the final listing rule (63 FR 49006, September 14, 1998), we described the vulnerabilities associated with low numbers, stating that the limited numbers and extremely localized range of Trichostema austromontanum ssp. compactum make this taxon more susceptible to single disturbance events such as trampling during the flowering season or alteration of the local water table from soil compression. However, the 1998 final rule did not provide details explaining why we concluded that the subspecies was more susceptible to disturbance. We provide additional explanation in our 2013 5-year review (Service 2013, p. 12), in which we note that conservation biology literature (such as Shaffer 1981, pp. 131-134; 1987, pp. 69-86; Primack 1998, pp. 301-308; Leppig and White 2006, pp. 264-274) commonly notes the increased vulnerability of taxa known from only one or very few locations and when only small populations exist. We then explained that the threat associated with low numbers of individuals was based on the concern that in years when there were fewer than 100 individual plants, very little seed was produced, resulting in a species that may not be self-sustaining.

Based on new information since the time of listing, we now know that it is likely that Trichostema austromontanum ssp. compactum is able to survive years with poor conditions and very few flowering plants because of the existing, naturally occurring, onsite seed bank in the soil (Bauder 1999, p. 37). The majority of seeds of T. a. ssp. compactum produced each year are likely deposited in the soils of the basin of Hidden Lake because there are no known means of seed dispersal. We have also found through germination experiments that only a small percentage of seeds germinate, even when conditions are appropriate (Bauder 1999, p. 28; Fraga and Wall 2009, p. 5). This suggests that some proportion of T. a. ssp. compactum seeds likely remain dormant in the soil and survive through years lacking adequate environmental conditions for plants to reach maturity and reproduce. In the PDM plan, we recommend monitoring reproductive success of the taxon, because it may be cause for concern if the reproductive potential decreases. Data collected since 1980 on this taxon show that the standing population size fluctuates from fewer than 100 to greater than 10,000 plants, but the presence of a persistent soil seed bank demonstrates resiliency and has allowed the subspecies to remain viable. The differences in standing population size of T. a. ssp. compactum, especially absent evidence of trampling, may still be best characterized as natural variation or fluctuation tied to the annual water level of Hidden Lake (Bauder and McMillan 1998, pp. 63-66; Bauder 1999, pp. 13-17). In this manner, we conclude that the low numbers of individuals in some years is a temporary phenomenon and does not pose a long-term threat to this plant. Nevertheless, an ex situ seed bank (an offsite, artificial collection of seeds held in special climate-controlled conditions for long-term storage) has been established and is discussed further in the PDM plan.

As noted in the 2013 5-year review (Service 2013, pp. 12-13), species known from only one or a few populations, or that exist in populations with low numbers of individuals, are more vulnerable to stochastic (random) events. For example, a fire, flood, or drought is likely to be more devastating to a small, localized population than to a large, widespread population. Though increased vulnerability to stochastic events has not been documented for Trichostema austromontanum ssp. compactum in the past, nor were specific concerns discussed in detail in the final listing rule (63 FR 49006, September 14, 1998), fire could affect the area in the future. A fire burned near Hidden Lake in 2013 (Mountain Fire). Though there were no impacts to T. a. ssp. compactum, a large fire could potentially affect the lake, and subsequently T. a. ssp. compactum, through increased sedimentation or changes to the hydrology.

While it is possible that stochastic events could impact Trichostema austromontanum ssp. compactum in the future, we conclude that this threat alone is not significant enough to cause long-term population declines because the natural persistent seed bank in the soil would likely survive such events, including fire. RSABG collected T. a. ssp. compactum seeds over 3 years (2006, 2008, and 2009) and is maintaining an ex situ (offsite) conservation seed bank. As indicated in the PDM plan, additional research is needed to estimate the size of the seed bank, as well as additional collections during years of high and low abundance. Maintenance of this seed bank provides insurance against the subspecies going extinct if the natural occurrence were extirpated due to an adverse stochastic event or other circumstances (such as disease or prolonged drought).

Climate Change

Here, we consider observed or likely environmental changes resulting from ongoing and projected changes in climate. The 1998 listing rule did not discuss the potential impacts of climate change on Trichostema austromontanum ssp. compactum or its habitat (63 FR 49006, September 14, 1998). As defined by the Intergovernmental Panel on Climate Change (IPCC), the term “climate” refers to the mean and variability of different types of weather conditions over time, with 30 years being a typical period for such measurements, although shorter or longer periods also may be used (IPCC 2013a, p. 1,450). The term “climate change” thus refers to a change in the mean or the variability of relevant properties, which persists for an extended period, typically decades or longer, due to natural conditions (e.g., solar cycles) or human-caused changes in the composition of atmosphere or in land use (IPCC 2013a, p. 1,450).

Scientific measurements spanning several decades demonstrate that changes in climate are occurring. In particular, warming of the climate system is unequivocal, and many of the observed changes in the last 60 years are unprecedented over decades to millennia (IPCC 2013b, p. 4). The current rate of climate change may be as fast as any extended warming period over the past 65 million years and is projected to accelerate in the next 30 to 80 years (National Research Council 2013, p. 5). Thus, rapid climate change is adding to other sources of extinction pressures, such as land use and invasive species, which will likely place extinction rates in this era among just a handful of the severe biodiversity crises observed in Earth's geological record (AAAS 2014, p. 17).

Examples of various other observed and projected changes in climate and associated effects and risks, and the bases for them, are provided for global and regional scales in reports issued by the IPCC (2013c, 2014), and similar types of information for the United States and regions within it can be found in the National Climate Assessment (Melillo et al. 2014, entire).

Results of scientific analyses presented by the IPCC show that most of the observed increase in global average temperature since the mid-20th century cannot be explained by natural variability in climate and is “extremely likely” (defined by the IPCC as 95 to 100 percent likelihood) due to the observed increase in greenhouse gas (GHG) concentrations in the atmosphere as a result of human activities, particularly carbon dioxide emissions from fossil fuel use (IPCC 2013b, p. 17 and related citations).

Scientists use a variety of climate models, which include consideration of natural processes and variability, as well as various scenarios of potential levels and timing of GHG emissions, to evaluate the causes of changes already observed and to project future changes in temperature and other climate conditions. Model results yield very similar projections of average global warming until about 2030, and thereafter the magnitude and rate of warming vary through the end of the century depending on the assumptions about population levels, emissions of GHGs, and other factors that influence climate change. Thus, absent extremely rapid stabilization of GHGs at a global level, there is strong scientific support for projections that warming will continue through the 21st century, and that the magnitude and rate of change will be influenced substantially by human actions regarding GHG emissions (IPCC 2013b, 2014; entire).

Global climate projections are informative, and in some cases, the only or the best scientific information available for us to use. However, projected changes in climate and related impacts can vary substantially across and within different regions of the world (e.g., IPCC 2013c, 2014; entire) and within the United States (Melillo et al. 2014, entire). Therefore, we use “downscaled” projections when they are available and have been developed through appropriate scientific procedures, because such projections provide higher resolution information that is more relevant to spatial scales used for analyses of a given species (see Glick et al. 2011, pp. 58-61, for a discussion of downscaling).

Various changes in climate may have direct or indirect effects on species. These may be positive, neutral, or negative, and they may change over time, depending on the species and other relevant considerations, such as interactions of climate with other variables like habitat fragmentation (for examples, see Franco et al. 2006; Forister et al. 2010; Galbraith et al. 2010; Chen et al. 2011; Bertelsmeier et al. 2013, entire). In addition to considering individual species, scientists are evaluating potential climate change-related impacts to, and responses of, ecological systems, habitat conditions, and groups of species (e.g., Deutsch et al. 2008; Berg et al. 2010; Euskirchen et al. 2009; McKechnie and Wolf 2010; Sinervo et al. 2010; Beaumont et al. 2011; McKelvey et al. 2011; Rogers and Schindler 2011; Bellard et al. 2012).

Regional temperature observations are often used as an indicator of how climate is changing. The Western Regional Climate Center (WRCC) has defined 11 climate regions for evaluating various climate trends in California (Abatzoglou et al. 2009, p. 1535). The relevant WRCC climate region for the distribution of Trichostema austromontanum ssp. compactum within the San Jacinto Mountains is the Southern Interior Region.

Two indicators of temperature, the increase in mean temperature and the increase in maximum temperature, are important for evaluating trends in climate change in California. For the Southern Interior climate region, linear trends (evaluated over a 100-year time period) indicate an increase in mean temperatures (January through December) of approximately 1.71± 0.47 °F per 100 years (0.95 ± 0.26 °C per 100 years) since 1895, and 3.11± 1.16 °F per 100 years (1.73 ± 0.64 °C per 100 years) since 1949 (WRCC 2016). Similarly, the maximum temperature 100-year trend for the Southern Interior Region shows an increase of about 1.48 ± 0.57 °F per 100 years (0.82 ± 0.32 °C per 100 years) since 1895, and 2.54 ± 1.38 °F per 100 years (1.41 ± 0.77 °C per 100 years) since 1949 (WRCC 2016). It is logical to assume the rate of temperature increase for this region is higher for the second time period (i.e., since 1949) than for the first time period (i.e., since 1895) due to the increased use of fossil fuels in the 20th century.

Climate models provide climate projections into the future, which help inform our evaluations of potential future impacts, but these projections become more uncertain with increasingly large timeframes. Pierce et al. (2013, entire) presented both Statewide and regional probabilistic estimates of temperature and precipitation changes for California (by the 2060s) using downscaled data from 16 global circulation models and 3 nested regional climate models. The study looked at a historical (1985-1994) and a future (2060-2069) time period using the IPCC Special Report on Emission Scenarios A2 (Pierce et al. 2013, p. 841), which is an IPCC-defined scenario used for the IPCC's Third and Fourth Assessment reports, and is based on a global population growth scenario and economic conditions that result in a relatively high level of atmospheric GHGs by 2100 (IPCC 2007, pp. 44-45; see Stocker et al. 2013, pp. 60-68, and Walsh et al. 2014, pp. 25-28, for discussions and comparisons of the prior and current IPCC approaches and outcomes). Importantly, the projections by Pierce et al. (2013, pp. 852-853) include daily distributions and natural internal climate variability.

Simulations using these downscaling methods project an increase in yearly temperature for the Southern California Mountains region ranging from 3.78 °F to 5.22 °F (2.1 °C to 2.9 °C) by the 2060s time period, compared to 1985-1994 (Pierce et al. 2013, p. 844). Averaging across all models and downscaling techniques, the simulations project a yearly averaged warming of 4.32 °F (2.4 °C) by the 2060s (Pierce et al. 2013, p. 842).

While we do not have information to suggest warmer temperatures will directly impact Trichostema austromontanum ssp. compactum, there can be indirect effects. For example, Williams et al. (2015, p. 6826) found, “anthropogenic warming has intensified the recent drought [in California] as part of a chronic drying trend that is becoming increasingly detectable,” but they also noted that it was, “small relative to the range of natural climate variability.” Shukla et al. (2015, p. 4392) also found that temperature was an important factor in exacerbating drought conditions in California in 2014, although they noted that the low level of precipitation was the primary driver. Thus, the anticipated increasing temperatures (driven by global climate change) are likely to contribute to increased severity of droughts when they occur. However, because the natural climate of California is so variable, it is not clear whether increased drought severity will have substantial impact on T. a. ssp. compactum, which can take advantage of wetter years, when they occur, to replenish its natural seed bank.

Higher temperatures can also be expected to result in increased evaporation, which suggests that Hidden Lake will likely dry more quickly over a season. However, the effects of increased evaporation to habitat occupied by Trichostema austromontanum ssp. compactum or to the plant's life history are uncertain. For example, faster evaporation of Hidden Lake might provide an increased growing season (more time at the beginning) because more habitat may be available earlier in the season (the plant primarily grows in the dry portions of the lakebed), or it could result in a shorter growing season (less time at the end) because the area dries out too much and the plants may desiccate before producing seed, or the two processes could happen together and produce a shift in the growing season (same overall amount of growth time, just starting earlier in the year). Observed increases in temperature over the past 100 years do not appear to have currently adversely affected the subspecies. Based on the best available regional data, current and future trends do not lead us to conclude that change in ambient temperature is currently a threat to T. a. ssp. compactum or likely to become one in the future.

Precipitation patterns can also be used as an indicator of how climate is changing. We obtained yearly precipitation data for the Idyllwild region of the San Jacinto Mountains from the National Oceanic and Atmospheric Administration's National Centers for Environmental Information (http://www.ncdc.noaa.gov/). We then conducted a nonparametric correlation test, the Mann-Kendall statistical test (Hipel and McLeod 1994, pp. 63-64, 856-858), to evaluate trends in precipitation over time. This analysis was conducted using the R and R Studio software programs (R Development Core Team 2014) with the “Kendall” package, version 2.2 (McLeod 2011). We found no significant trend in precipitation over time (increasing or decreasing) from 1944-2015 (Grizzle 2016, pers. comm.). There is no information currently available that would lead us to conclude that potential changes in the amount of precipitation are a threat now or likely to be in the future. However, changes in the timing and type (rain or snow) of precipitation could alter the unique environment of Hidden Lake and potentially impact habitat where this taxon occurs in the future. To address this concern, we have included monitoring in the PDM plan (see Post-Delisting Monitoring, below) to provide baseline data on climatic conditions as well as the duration and depth of ponding that occurs at Hidden Lake. Additionally, the maintenance of the ex situ seed bank provides some flexibility to respond to stochastic events including those associated with a changing climate.

Summary of Factor E

Management actions implemented at Hidden Lake by CDPR in recent years have reduced the threat of trampling to a minimal level. At the time of listing, we were concerned that low numbers of individuals in some years threatened the existence of Trichostema austromontanum ssp. compactum. Since listing, data suggest this subspecies has a soil seed bank and germination mechanisms that have allowed the taxon to remain viable over time, even in years when very few plants flower and set seed. Low numbers of individuals in certain years followed by years with high numbers of individuals suggests this is a natural phenomenon for this taxon. Though stochastic events, such as wildfire, could affect the subspecies in the future, the soil seedbank will likely be maintained, facilitating future growth. Climate change was also identified as a potential threat since listing, but we do not consider it to be a substantial threat at this time, and ongoing management and monitoring is designed to detect future changes.

Summary of Comments and Recommendations

In the proposed rule published on January 5, 2017 (82 FR 1296), we requested that all interested parties submit written comments on the proposal by March 6, 2017. We also contacted appropriate Federal and State agencies, scientific experts and organizations, and other interested parties and invited them to comment on the proposal. We did not receive any requests for a public hearing. Another comment period was opened on November 1, 2017, for 30 days in order to publish a legal notice and to give all interested parties further opportunity to comment on the proposed rule to delist Trichostema austromontanum subsp. compactum (82 FR 50606). Newspaper notices inviting general public comment were published in The Desert Sun.

During the comment periods for the proposed rule, we received a total of 17 comment letters or statements directly addressing the proposed action. These included 4 comments from peer reviewers and 13 comments during open comment periods (1 from the State and 12 from the general public) that are posted on Federal docket no. FWS-R8-ES-2016-0127. Three of the public comments (including comments from the State) supported the proposed action to delist Trichostema austromontanum ssp. compactum. A fourth commenter provided no relevant information related to T. a. ssp. compactum. The remaining nine public commenters objected to the action to delist the subspecies; however, of these, only one provided substantive information regarding the proposed delisting rule.

In accordance with our peer review policy published on July 1, 1994 (59 FR 34270), we solicited expert opinion from seven knowledgeable individuals with scientific expertise that included familiarity with Trichostema austromontanum ssp. compactum and its habitat, biological needs, and threats, as well as familiarity with conservation biology, plant systematics, rare species, and plant phylogeography. We received responses from four of the peer reviewers. The reviewers generally supported the proposed delisting rule and commented that the current status of T. a. ssp. compactum is accurately presented.

We reviewed all comments received from the peer reviewers and the public for substantive issues and new information regarding the delisting of Trichostema austromontanum ssp. compactum. Substantive comments received during the comment period are addressed below and, where appropriate, incorporated directly into this final rule and the post-delisting monitoring plan.

Comments From Peer Reviewers

Comment (1): Multiple reviewers commented on the natural seed bank. One peer reviewer expressed concern with the density of the seed bank and said it would be useful to know more about the mean seed set in order to be better able to predict size of the seed bank and stability of the population. Another peer reviewer recommended identifying specific targets for number of plants/seeds stored and stated that different genotypes may be represented in different years, so ex situ collections should target multiple years including those with large and small numbers of plants.

Our Response: We appreciate the suggestions from peer reviewers and identified additional research that is needed to inform implementation of the PDM plan.

Comment (2): One peer reviewer asked whether the proposed 13-year monitoring will result in the appropriate data to assess if the species remains recovered and whether monitoring every 3 years provides enough information to assess trends. They recommended monitoring more regularly, perhaps in paired years.

Our Response: Though more regular surveys will likely occur (State Parks and RSABG have conducted annual surveys for the past several years), this PDM plan describes at a minimum the 5 years of post-delisting monitoring that will occur following removal from the Federal List of Endangered and Threatened Plants. These 5 years of monitoring have been expanded over a 13-year period to enable us to look for and detect changes in the population following delisting. The PDM plan further indicates that at the end of each survey year and at the end of the planned 13-year monitoring period, PDM data will be assessed to determine whether the survey protocols are functioning as anticipated and whether any changes in species protection are needed. If monitoring indicates that the species may be less secure than anticipated, the duration of the PDM period may be extended. Additional parameters or increased monitoring frequency could also be considered to increase the probability of detecting any future declines.

Comment (3): Peer reviewers made several additional recommendations for the final PDM plan, including: (1) Clarifying the trigger for re-listing and how it will be confirmed from monitoring; (2) monitoring of visitation rates to Hidden Lake bluecurls; (3) monitoring potential dispersal rates of nonnative plant species; (4) clarifying triggers for how the ex-situ seed bank would be used should it be needed, and how seeds would be used for reintroduction; and (5) clarifying genetic diversity, seed viability, and seed collection standards for seeds stored in the ex-situ seed bank.

Our Response: We appreciate the suggestions from the peer reviewers, and have adjusted the PDM plan to incorporate these recommendations.

Comment (4): One peer reviewer indicated that they have concerns regarding the sampling approach between the two methods described in the PDM plan. The reviewer indicated that an entire population census approach would be best to monitor population trends for this annual plant rather than restricted random sampling in years when large numbers of plants occur.

Our Response: We appreciate the information from peer reviewers. Annual surveys were conducted using this refined monitoring plan for the past 5 years. We will continue to work with our partners to evaluate methods for detecting trends.

Comment (5): One peer reviewer suggested that it is premature to suggest that Trichostema austromontanum ssp. compactum is not commonly pollinated by insects.

Our Response: We have made revisions to the final rule to reflect that additional research is needed to investigate the importance of pollinators for reproduction and seed set of Trichostema austromontanum ssp. compactum.

Comment (6): One peer reviewer thought that we had underestimated the potential threat from wildfire, given recent drought and resulting increases in dead or stressed trees in the San Jacinto Mountains and a fire in close proximity to Hidden Lake in 2013. The reviewer noted that, despite the species' long-lived seed bank, a wildfire could result in altered hydrology and increased sedimentation into Hidden Lake.

Our Response: We have added a short discussion of fire and stochastic events to the discussion of threats above. While we acknowledge that there is a chance that fire could impact the species, the natural and ex situ seed banks provide the ability to respond to this type of stochastic event, should it occur.

Public Comments

Comment (7): One public commenter recommended that post-delisting monitoring should be extended to a minimum of 25 years in order to monitor ongoing changes in climate and that status reviews be completed every 5 years and made publicly available.

Our Response: Section 4(g) of the Act states that the Secretary shall implement a system in cooperation with the States to monitor effectively for not less than 5 years the status of all species that have recovered to the point at which the measures provided pursuant to the Act are no longer necessary. As discussed above, the PDM plan for Trichostema austromontanum subsp. compactum expands the required 5-year period to 13 years. More regular surveys will likely occur as State Parks and RSABG have conducted annual surveys for the past several years. Furthermore, the PDM plan indicates that at the end of the 13-year monitoring period the PDM data will be assessed to determine whether the data collection protocols are functioning as anticipated and whether changes in species protection are needed. We have determined that this timeframe is sufficient, and if monitoring indicates that the species may be less secure than anticipated, the duration of the PDM period may be extended.

Comment (8): One public commenter stated that the PDM plan needs triggers for action if downward trends or impacts are reported from monitoring efforts.

Our Response: If data produced as part of or in conjunction with this PDM plan suggest that Trichostema austromontanum subsp. compactum are in decline or habitat destruction at Hidden Lake reaches a magnitude such that the species is likely to become endangered, it would trigger potential commencement of re-listing procedures. The justifications for four potential outcomes are described in the PDM plan. These actions are based on the status of trends and current impacts to the species and lay out the steps needed to determine if additional protections are needed.

Comment (9): One public commenter stated that the main threat to Trichostema austromontanum ssp. compactum is trampling by hikers. The commenter suggested that the Service and the Department of the Interior restrict access from known populations and that research be conducted to identify where plants occur so that trails could be rerouted to avoid them.

Our Response: The entire distribution where Trichostema austromontanum ssp. compactum occurs is owned by the State of California and managed by CDPR. As discussed above, CDPR has conducted surveys for this subspecies for the past several years and protections enacted in association with the Preserve and Wilderness designation are anticipated to remain should this subspecies be delisted. They are working to minimize impacts to T. a. ssp. compactum through construction of a new trail (Hidden Divide Trail), which will minimize unauthorized access and enable access only through a permit system. The trail will provide viewing areas and interpretive signs to educate visitors about the unique ecosystem, and fencing has been installed to restrict physical access.

Determination

Standard for Review

Section 4 of the Act (16 U.S.C. 1533) and its implementing regulations (50 CFR part 424) set forth the procedures for determining whether a species meets the definition of “endangered species” or “threatened species.” The Act defines an “endangered species” as a species that is “in danger of extinction throughout all or a significant portion of its range,” and a “threatened species” as a species that is “likely to become an endangered species within the foreseeable future throughout all or a significant portion of its range.” The Act requires that we determine whether a species meets the definition of “endangered species” or “threatened species” because of any of the following factors: (A) The present or threatened destruction, modification, or curtailment of its habitat or range; (B) Overutilization for commercial, recreational, scientific, or educational purposes; (C) Disease or predation; (D) The inadequacy of existing regulatory mechanisms; or (E) Other natural or manmade factors affecting its continued existence. The same factors apply whether we are analyzing the species' status throughout all of its range or throughout a significant portion of its range.

On July 1, 2014, we published a final policy interpreting the phrase “significant portion of its range” (SPR) (79 FR 37578). Aspects of that policy were vacated for species that occur in Arizona by the United States District Court for the District of Arizona. CBD v. Jewell, No. CV-14-02506-TUC-RM (Mar. 29, 2017), clarified by the court, Mar. 29, 2017. Since Trichostema austromontanum ssp. compactum does not occur in Arizona, for this finding we rely on the SPR Policy, and also provide additional explanation and support for our interpretation of the SPR phrase. In our policy, we interpret the phrase “significant portion of its range” in the Act's definitions of “endangered species” and “threatened species” to provide an independent basis for listing a species in its entirety; thus there are two situations (or factual bases) under which a species would qualify for listing: A species may be in danger of extinction or likely to become so in the foreseeable future throughout all of its range; or a species may be in danger of extinction or likely to become so throughout a significant portion of its range. If a species is in danger of extinction throughout an SPR, it, the species, is an “endangered species.” The same analysis applies to “threatened species.”

Our final policy addresses the consequences of finding a species is in danger of extinction in an SPR, and what would constitute an SPR. The final policy states that (1) if a species is found to be endangered or threatened throughout a significant portion of its range, the entire species is listed as an endangered species or a threatened species, respectively, and the Act's protections apply to all individuals of the species wherever found; (2) a portion of the range of a species is “significant” if the species is not currently endangered or threatened throughout all of its range, but the portion's contribution to the viability of the species is so important that, without the members in that portion, the species would be in danger of extinction, or likely to become so in the foreseeable future, throughout all of its range; (3) the range of a species is considered to be the general geographical area within which that species can be found at the time the Service or the National Marine Fisheries Service makes any particular status determination; and (4) if a vertebrate species is endangered or threatened throughout an SPR, and the population in that significant portion is a valid distinct population segment (DPS), we will list the DPS rather than the entire taxonomic species or subspecies.

The SPR policy applies to analyses for all status determinations, including listing, delisting, and reclassification determinations. As described in the first element of our policy, once the Service determines that a “species”—which can include a species, subspecies, or DPS—meets the definition of “endangered species” or “threatened species,” the species must be listed in its entirety and the Act's protections applied consistently to all individuals of the species wherever found (subject to modification of protections through special rules under sections 4(d) and 10(j) of the Act).

For the second element, the policy sets out the procedure for analyzing whether any portion is an SPR; the procedure is similar, regardless of the type of status determination we are making. The first step in our assessment of the status of a species is to determine its status throughout all of its range. We subsequently examine whether, in light of the species' status throughout all of its range, it is necessary to determine its status throughout a significant portion of its range. If we determine that the species is in danger of extinction, or likely to become so in the foreseeable future, throughout all of its range, we list the species as an endangered (or threatened) species and no SPR analysis is required. The policy explains in detail the bases for this conclusion—including that this process ensures that the SPR language provides an independent basis for listing; maximizes the flexibility of the Service to provide protections for the species; and eliminates the potential confusion if a species could meet the definitions of both “endangered species” and “threatened species” based on its statuses throughout its range and in a significant portion of its range. See, e.g., SPR Policy, 79 FR 37580-81, July 1, 2014.

Hidden Lake Bluecurls Determination of Status Throughout All of Its Range

No threats attributable to Factors A, B, or C were identified at the time Trichostema austromontanum ssp. compactum was listed in 1998. Threats identified at the time of listing included impacts associated with human and horse trampling (Factor E), the limited numbers and an extremely localized range of T. a. ssp. compactum (Factor E), and the limited protections afforded by the CDPR to reduce or eliminate those threats (Factor D). Since listing, conditions associated with climate change (Factor E) have been identified as a potential rangewide threat to the subspecies.

We now have sufficient data to show that management enacted by CDPR to benefit Trichostema austromontanum ssp. compactum and its habitat at Hidden Lake has been effective and will continue to be in the foreseeable future. CDPR, as the operative land manager, has demonstrated a long-term commitment to provide for the conservation of T. a. ssp. compactum. Their staff, in cooperation with RSABG staff, finalized the Conservation Strategy for Trichostema austromontanum ssp. compactum (Hidden Lake bluecurls; Lamiaceae) (Fraga and Kietzer 2009, entire), which outlined immediate conservation actions, goals, and conservation measures for the recovery and long-term management of the subspecies. In subsequent years, both entities have continued to monitor the area and have developed an improved survey methodology for T. a. ssp. compactum. Because T. a. ssp. compactum is entirely within Mount San Jacinto State Park, is within the Mount San Jacinto State Wilderness Area, and is within the recently established Preserve, CDPR is able to manage Hidden Lake specifically for the conservation of T. a. ssp. compactum and its habitat, along with other sensitive resources found in the area.

Trampling by humans has been minimized, and no visible impacts to Trichostema austromontanum ssp. compactum have been observed from trampling by horses since 2000 because of CDPR's management. CDPR indicated that the Hidden Divide Trail will be a pedestrian trail and equestrian use will not be authorized. Therefore, we no longer consider T. a. ssp. compactum to be threatened by trampling. The low numbers of standing plants in some years appears to be a natural phenomenon for this subspecies. The species' soil seed bank provides resiliency that allows the species to remain viable through years with poor conditions, and, therefore, low numbers in some years is not considered a threat at this time. The ex situ seed banking program at RSABG also provides insurance for this subspecies by assuring propagation potential should future stochastic events or climate change adversely impact the endemic population. Actions taken by CDPR and RSABG have reduced the threats associated with trampling, small population size, and stochastic events to a manageable level.

Since listing, we have become aware of the potential for anthropogenic climate change to affect all biota, including Trichostema austromontanum ssp. compactum. While available information indicates that temperatures are increasing, there is no clear signal as to the potential impacts to T. a. ssp. compactum at this time. Additionally, the lack of a significant declining trend in the amount of precipitation suggests that there is no immediate cause for concern, but potential impacts to T. a. ssp. compactum from changes in the timing and type of precipitation should be monitored in the future.

Ongoing management by CDPR and protections provided by designation as a State Wilderness Area as well as designation as the Hidden Lake Divide Natural Preserve work to protect this area from development or other habitat disturbance. Management by State Parks has successfully ameliorated threats to the species and the species' adaptations, including the soil seedbank, provide sufficient resilience to withstand its variable environment. Having considered the individual and cumulative impact of threats on this subspecies, we find that Trichostema austromontanum ssp. compactum is not in danger of extinction throughout all of its range, nor is it likely to become so in the foreseeable future.

Determination of Status Throughout a Significant Portion of Its Range

Consistent with our interpretation that there are two independent bases for listing species as described above, after examining the status of Hidden Lake bluecurls throughout all of its range, we now examine whether it is necessary to determine its status throughout a significant portion of its range. Per our final SPR policy, we must give operational effect to both the “throughout all” of its range language and the SPR phrase in the definitions of “endangered species” and “threatened species.” We have concluded that to give operational effect to both the “throughout all” language and the SPR phrase, the Service should conduct an SPR analysis if (and only if) a species does not warrant listing according to the “throughout all” language.

If the species is neither endangered nor threatened throughout all of its range, we determine whether the species is endangered or threatened throughout a significant portion of its range. To undertake this analysis, we first identify any portions of the species' range that warrant further consideration. The range of a species can theoretically be divided into portions in an infinite number of ways. However, there is no purpose in analyzing portions of the range that have no reasonable potential to be significant or in analyzing portions of the range in which there is no reasonable potential for the species to be endangered or threatened. To identify only those portions that warrant further consideration, we determine whether there is substantial information indicating that there are any portions of the species' range: (1) That may be “significant” and (2) where the species may be in danger of extinction or likely to become so within the foreseeable future. We emphasize that answering these questions in the affirmative is not a determination that the species is in danger of extinction or likely to become so in the foreseeable future throughout a significant portion of its range—rather, it is a step in determining whether a more-detailed analysis of the issue is required.

In practice, one key part of identifying portions for further analysis may be whether the threats or effects of threats are geographically concentrated in some way. If a species is not in danger of extinction or likely to become so in the foreseeable future throughout all of its range and the threats to the species are essentially uniform throughout its range, then the species is not likely to be in danger of extinction or likely to become so in the foreseeable future in any portion of its range and no portion is likely to warrant further consideration. Moreover, if any concentration of threats applies only to portions of the species' range that are not “significant,” such portions will not warrant further consideration.

We evaluate the significance of the portion of the range based on its biological contribution to the conservation of the species. For this reason, we describe the threshold for “significant” in terms of an increase in the risk of extinction for the species. We conclude in our policy that such a biologically based definition of “significant” best conforms to the purposes of the Act, is consistent with judicial interpretations, and best ensures species' conservation. We determine if a portion's biological contribution is so important that the portion qualifies as “significant” by asking whether, without that portion, the status of the species would be so impaired that the species would be in danger of extinction or likely to become so in the foreseeable future (i.e., would be an “endangered species” or a “threatened species”). Conversely, we would not consider the portion of the range at issue to be “significant” if there is sufficient viability elsewhere in the species' range that the species would not be in danger of extinction or likely to become so throughout its range even if the population in that portion of the range in question became extirpated (extinct locally).

If we identify any portions (1) that may be significant and (2) where the species may be in danger of extinction or likely to become so in the foreseeable future, we engage in a more-detailed analysis to determine whether these standards are indeed met. The identification of an SPR does not create a presumption, prejudgment, or other determination as to whether the species is in danger of extinction or likely to become so in the foreseeable future in that identified SPR. We must go through a separate analysis to determine whether the species is in danger of extinction or likely to become so in the SPR. To make that determination, we will use the same standards and methodology that we use to determine if a species is in danger of extinction or likely to become so in the foreseeable future throughout all of its range.

If we have identified portions of the species' range for further analysis, we conduct a detailed analysis of the significance of the portion and the status of the species in that portion. Depending on the biology of the species, its range, and the threats it faces, it might be more efficient for us to address the significance question first or the status question first. If we address significance first and determine that a portion of the range is not “significant,” we do not need to determine whether the species is in danger of extinction or likely to become so in the foreseeable future there; if we address the status of the species in portions of its range first and determine that the species is not in danger of extinction or likely to become so in a portion of its range, we do not need to determine if that portion is “significant.”

Applying the process described above, to identify whether any portions warrant further consideration for Trichostema austromontanum ssp. compactum, we determine whether there is substantial information indicating that (1) particular portions may be significant and (2) the species may be in danger of extinction in those portions or likely to become so within the foreseeable future.

First, we will consider whether there is substantial information to indicate that Trichostema austromontanum ssp. compactum faces any threats or effects of threats that are geographically concentrated in any portion of the subspecies' range.

Trichostema austromontanum ssp. compactum is a narrow endemic plant subspecies, found only in and around Hidden Lake in Mount San Jacinto State Park. Its entire range is about 2 ac (1 ha) in size. It is an annual plant, which means it completes its life cycle in less than 1 year. As previously noted, it has a natural seed bank in the soil, with seeds that persist for extended periods of time. Although the number and distribution of standing (growing) plants varies from year to year, the distribution of the seeds in soil is likely fairly ubiquitous within the area occupied by the subspecies. Within this 2-ac (1-ha) area, there is no natural division that would arbitrarily separate one portion of the range from another. Because of the limited geographic area the subspecies occupies, the entire subspecies experiences similar conditions and management by CDPR such that no portion of the subspecies' range is likely to experience a different or elevated level of threats.

We conclude that there are no portions of the subspecies' range that are likely to be both significant and be in danger of extinction or likely to become so in the foreseeable future. Therefore, no portion warrants further consideration to determine whether the subspecies is in danger of extinction or likely to become so in a significant portion of its range.

We have carefully assessed the best scientific and commercial information available regarding the past, present, and future threats to Trichostema austromontanum ssp. compactum. Because the species is neither in danger of extinction now nor likely to become so in the foreseeable future throughout all or any significant portion of its range, the species does not meet the definition of an endangered species or threatened species. Therefore, we find that T. a. ssp. compactum no longer requires the protection of the Act, and we are removing the subspecies from the List of Endangered and Threatened Plants.

Effects of This Rule

The Act sets forth a series of general prohibitions and exceptions that apply to all endangered plants. The Act's implementing regulations extend most of the prohibitions provided under section 9(a)(2) of the Act to threatened plants (see 50 CFR 17.61 and 17.71). It is illegal for any person subject to the jurisdiction of the United States to import or export, transport in interstate or foreign commerce in the course of a commercial activity, sell or offer for sale in interstate or foreign commerce, or remove and reduce Trichostema austromontanum ssp. compactum to possession from areas under Federal jurisdiction. Section 7 of the Act requires that Federal agencies consult with us to ensure that any action authorized, funded, or carried out by them is not likely to jeopardize the subspecies' continued existence. This final rule revises 50 CFR 17.12 to remove T. a. ssp. compactum from the Federal List of Endangered and Threatened Plants, and these prohibitions no longer apply. Because critical habitat has not been designated for this taxon, this rule does not affect 50 CFR 17.96.

Post-Delisting Monitoring

Section 4(g)(1) of the Act requires us, in cooperation with the States, to implement a system to monitor effectively, for not less than 5 years, all species that have been recovered and delisted. The purpose of this post-delisting monitoring is to verify that a species remains secure from risk of extinction after it has been removed from the protections of the Act. The monitoring is designed to detect the failure of any delisted species to sustain itself without the protective measures provided by the Act. If, at any time during the monitoring period, data indicate that protective status under the Act should be reinstated, we can initiate listing procedures, including, if appropriate, emergency listing under section 4(b)(7) of the Act. Section 4(g) of the Act explicitly requires us to cooperate with the States in development and implementation of post-delisting monitoring programs, but we remain responsible for compliance with section 4(g) of the Act and, therefore, must remain actively engaged in all phases of post-delisting monitoring. We also seek active participation of other entities that are expected to assume responsibilities for the species' conservation post-delisting.

Post-Delisting Monitoring Plan Overview

We prepared a PDM plan for Trichostema austromontanum ssp. compactum. The plan discusses the current status of the taxon and describes the methods proposed for monitoring after the taxon is removed from the Federal List of Endangered and Threatened Plants (https://ecos.fws.gov). The PDM plan:

(1) Summarizes the status of Trichostema austromontanum ssp. compactum at the time the final delisting rule published;

(2) Describes frequency and duration of monitoring;

(3) Discusses monitoring methods and potential sampling regimes;

(4) Defines what potential triggers will be evaluated for additional monitoring;

(5) Outlines reporting requirements and procedures;

(6) Indicates what additional research is needed to implement the PDM plan; and

(7) Proposes a schedule for implementing the PDM plan and defines responsibilities.

It is our intent to work with our partners towards maintaining the recovered status of Trichostema austromontanum ssp. compactum.

Required Determinations

National Environmental Policy Act

We determined that we do not need to prepare an environmental assessment or an environmental impact statement, as defined under the authority of the National Environmental Policy Act of 1969 (42 U.S.C. 4321 et seq.), in connection with regulations adopted pursuant to section 4(a) of the Act. We published a notice outlining our reasons for this determination in the Federal Register on October 25, 1983 (48 FR 49244).

References Cited

A complete list of all references cited in this final rule is available on the internet at http://www.regulations.gov under Docket No. FWS-R8-ES-2016-0127, or upon request from the Field Supervisor, Carlsbad Fish and Wildlife Office (see FOR FURTHER INFORMATION CONTACT).

Author

The primary author of this final rule is the Carlsbad Fish and Wildlife Office in Carlsbad, California, in coordination with the Pacific Southwest Regional Office in Sacramento, California.

List of Subjects in 50 CFR Part 17

Endangered and threatened species, Exports, Imports, Reporting and recordkeeping requirements, Transportation.

Regulation Promulgation

Accordingly, we amend part 17, subchapter B of chapter I, title 50 of the Code of Federal Regulations, as set forth below:

PART 17—ENDANGERED AND THREATENED WILDLIFE AND PLANTS

1. The authority citation for part 17 continues to read as follows:

Authority: 16 U.S.C. 1361-1407; 1531-1544; and 4201-4245, unless otherwise noted.

§ 17.12 [Amended]

2. Amend § 17.12(h) by removing the entry for “Trichostema austromontanum ssp. compactum” under FLOWERING PLANTS from the List of Endangered and Threatened Plants.

Dated: May 1, 2018.
James W. Kurth,
Deputy Director, U.S. Fish and Wildlife Service, Exercising the Authority of the Director, U.S. Fish and Wildlife Service.

[FR Doc. 2018-11786 Filed 5-31-18; 8:45 am]

BILLING CODE P